POSTAL SERVICE

39 CFR Part 956

Rules of Practice in Proceedings Relative to Disciplinary Action for Violations of Restrictions on Post-Employment Activity

AGENCY: Postal Service.

ACTION: Final Rule.

SUMMARY: The Postal Service is removing the Rules of Practice in Proceedings Relative to Disciplinary Action for Violations of Restrictions on Post-Employment Activity.

DATES: Effective Date: March 12, 2008.

FOR FURTHER INFORMATION CONTACT: Diane M. Mego, (703) 812-1905.

SUPPLEMENTARY INFORMATION: The Postal Service is removing the Rules of Practice in Proceedings Relative to Disciplinary Action for Violations of Restrictions on Post-Employment Activity. These provisions have been superseded by the Standards of Ethical Conduct for Employees of the Executive Branch issued by the Office of Government Ethics. This revision is a mandated change in the agency rules of procedure before the Judicial Officer and, therefore, it is appropriate for its adoption by the Postal Service to become effective immediately.

PART 956—[REMOVED]

Accordingly, and under the authority of 39 U.S.C. 204 and 401, the Postal Service removes and reserves 39 CFR part 956.

Stanley F. Mires,
Chief Counsel, Legislative.

[FR Doc. E8-4869 Filed 3-11-08; 8:45 am]

BILLING CODE 7710-12-P